DEPARTMENT OF ENERGY

Federal Energy Regulatory Commission

[Docket No. PF14-21-000]

Alaska Gasline Development Corporation, BP Alaska LNG LLC, Conoco Phillips Alaska LNG Company, ExxonMobil Alaska LNG LLC; Supplemental Notice Requesting Comments on the Denali National Park and Preserve Alterative for the Planned Alaska LNG Project

As previously noticed on March 4, 2015, the staff of the Federal Energy Regulatory Commission (FERC or Commission) is preparing an environmental impact statement (EIS) that will discuss the environmental impacts of the Alaska LNG Project that could result from construction and operation of facilities by Alaska Gasline Development Corporation; BP Alaska LNG LLC; Conoco Phillips Alaska LNG Company; and ExxonMobil Alaska LNG LLC (Applicants) in Alaska. This notice explains the additional scoping process that will be used to gather input from the public and interested agencies on a route alternative to be evaluated for crossing the Denali National Park and Preserve (DNPP).

The route currently planned by Alaska LNG is closely aligned with the Parks Highway, but deviates from the highway where the Parks Highway passes through the DNPP entrance area (see figure in appendix 1.¹) In response to scoping comments, and in working with federal and state regulating agencies, as well as the local communities, Alaska LNG has identified an alternative route (the DNPP Alternative) that passes directly through the DNPP entrance area and is closely aligned with the Parks Highway (see figure in appendix 1). In this general area, the planned route would be 8.05 miles long and not enter the DNPP, while the corresponding segment of the DNPP Alternative would be 8.50 miles long (6.16 miles of which would pass through the DNPP).

¹ The appendices referenced in this notice will not appear in the Federal Register. Copies of the appendices were sent to all those receiving this notice in the mail and are available at www.ferc.gov using the link called “eLibrary” or from the Commission's Public Reference Room, 888 First Street NE., Washington, DC 20426, or call (202) 502-8371. For instructions on connecting to eLibrary, refer to the last page of this notice.

This Supplemental Notice announces the opening of a limited scoping period to gather input from the public and interested agencies on the DNPP Alternative route. You can make a difference by providing us with your specific comments or concerns about the DNPP Alternative route. Your comments should focus on the potential environmental effects, reasonable alternatives, and measures to avoid or lessen environmental impacts. Your input will help the Commission staff determine what issues they need to evaluate in the EIS. To ensure that your comments are timely and properly recorded, please send your comments so that the Commission receives them in Washington, DC on or before September 25, 2016.

This notice is being sent to the Commission's current environmental mailing list for this project. State and local government representatives should notify their constituents of this planned project and encourage them to comment on their areas of concern.

If you are a landowner receiving this notice, a pipeline company representative may contact you about the acquisition of an easement to construct, operate, and maintain the planned facilities. The company would seek to negotiate a mutually acceptable agreement. However, if the Commission approves the project, that approval conveys with it the right of eminent domain. Therefore, if easement negotiations fail to produce an agreement, the pipeline company could initiate condemnation proceedings where compensation would be determined in accordance with state law.

A fact sheet prepared by the FERC entitled “An Interstate Natural Gas Facility On My Land? What Do I Need To Know?” is available for viewing on the FERC Web site (www.ferc.gov). This fact sheet addresses a number of typically asked questions, including the use of eminent domain and how to participate in the Commission's proceedings.

Public Participation

For your convenience, there are three methods you can use to submit your comments to the Commission. In all instances, please reference the project docket number (PF14-21-000) with your submission. The Commission encourages electronic filing of comments and has expert staff available to assist you at (202) 502-8258 or efiling@ferc.gov. Please carefully follow these instructions so that your comments are properly recorded.

(1) You can file your comments electronically using the eComment feature on the Commission's Web site (www.ferc.gov) under the link to Documents and Filings. This is an easy method for submitting brief, text-only comments on a project;

(2) You can file your comments electronically by using the eFiling feature on the Commission's Web site (www.ferc.gov) under the link to Documents and Filings. With eFiling, you can provide comments in a variety of formats by attaching them as a file with your submission. New eFiling users must first create an account by clicking on “eRegister.” If you are filing a comment on a particular project, please select “Comment on a Filing” as the filing type; or

(3) You can file a paper copy of your comments by mailing them to the following address. Be sure to reference the project docket number (PF14-21-000) with your submission: Kimberly D. Bose, Secretary, Federal Energy Regulatory Commission, 888 First Street NE., Room 1A, Washington, DC 20426.

In addition, if you have questions regarding the FERC process and our review of the alternative, FERC staff will be available to answer questions on Tuesday, August 23, 2016, between 4:00 and 6:00 p.m. at the Murie Dining Hall within Denali National Park (next to the Murie Science and Learning Center),

Please note this is not your only public input opportunity; please refer to the review process flow chart in appendix 2.

Summary of the Planned Project

The Applicants are planning to transport and liquefy supplies of natural gas from the production fields at the Point Thomson and Prudhoe Bay Units (PTU and PBU, respectively) on Alaska's North Slope for export and potential in-state deliveries. To do this, the Alaska LNG Project would consist of a new Gas Treatment Plant (GTP) on the North Slope and associated pipelines to deliver the gas from the PTU and PBU to the GTP, as well as a pipeline to deliver natural gas processing byproducts from the GTP back to the PBU. The GTP would treat/process the natural gas for delivery to an approximately 800-mile-long, 42-inch-diameter pipeline that would transport the natural gas to a new planned liquefaction facility on the eastern shore of Cook Inlet in the Nikiski area of the Kenai Peninsula. Alaska LNG anticipates starting construction in late 2019, with construction and startup taking approximately 8 years. On this basis, the full planned Project system would be placed into service about 2027.

As previously described, the alternative we are scoping involves an alternative route directly through the DNPP entrance area and closely aligned with the Parks Highway (see figure in appendix 1). We are requesting input from stakeholders on both the DNPP Alternative route and the current route that is located outside the park.

The EIS Process

The National Environmental Policy Act (NEPA) requires the Commission to take into account the environmental impacts that could result from an action whenever it considers the issuance of a Certificate of Public Convenience and Necessity. NEPA also requires us ² to discover and address concerns the public may have about proposals. This process is referred to as scoping. The main goal of the scoping process is to focus the analysis in the EIS on the important environmental issues. By this notice, the Commission requests public comments on the scope of the issues to address in the EIS. We will consider all filed comments during the preparation of the EIS.

² “We,” “us,” and “our” refer to the environmental staff of the Commission's Office of Energy Projects.

In the EIS we will discuss impacts that could occur as a result of the construction and operation of the planned project under these general headings:

• Alternatives

• Geology and soils;

• Land use;

• Water resources, fisheries, and wetlands;

• Cultural resources;

• Vegetation and wildlife;

• Air quality and noise;

• Endangered and threatened species;

• Transportation;

• Socioeconomics;

• Public safety; and

• Cumulative impacts.

We will also evaluate possible alternatives to the planned project or portions of the project, and make recommendations on how to lessen or avoid impacts on the various resource areas.

Although no formal application has been filed, we have already initiated our NEPA review under the Commission's pre-filing process. The purpose of the pre-filing process is to encourage early involvement of interested stakeholders and to identify and resolve issues before the FERC receives an application. As part of our pre-filing review, we have already met with the Applicants, jurisdictional agencies, Alaska Native tribes, local officials, and other interested stakeholders to discuss the project and identify issues/impacts and concerns before the FERC receives an application.

In October and November 2016, FERC conducted a total of 12 scoping meetings throughout Alaska. During the scoping meetings, we garnered feedback from the local communities, including residents, elected officials, tribal leaders, community leaders, and other interested stakeholders.

Our independent analysis of the issues will be presented in the EIS. The draft EIS will be published and distributed for public review and comment. We will consider all timely comments and revise the document, as necessary, before issuing a final EIS. To ensure your comments are considered, please carefully follow the instructions in the Public Participation section of this notice.

Environmental Mailing List

The environmental mailing list includes federal, state, and local government representatives and agencies; elected officials; environmental and public interest groups; Native American Tribes; other interested parties; and local libraries and newspapers. This list also includes all affected landowners (as defined in the Commission's regulations) who are potential right-of-way grantors, whose property may be used temporarily for project purposes, or who own homes within certain distances of aboveground facilities, and anyone who submits comments on the project. We will update the environmental mailing list as the analysis proceeds to ensure that we send the information related to this environmental review to all individuals, organizations, and government entities interested in and/or potentially affected by the planned project.

Copies of the completed draft EIS will be sent to the environmental mailing list for public review and comment. If you would prefer to receive a paper copy of the document instead of the CD version or would like to remove your name from the mailing list, please return the attached Information Request (appendix 3).

Becoming an Intervenor

Once the Applicants file their application with the Commission, you may want to become an “intervenor” which is an official party to the Commission's proceeding. Intervenors play a more formal role in the process and are able to file briefs, appear at hearings, and be heard by the courts if they choose to appeal the Commission's final ruling. An intervenor formally participates in the proceeding by filing a request to intervene. Instructions for becoming an intervenor are in the User's Guide under the “efiling” link on the Commission's Web site. Please note that the Commission will not accept requests for intervenor status at this time. You must wait until the Commission receives a formal application for the project.

Additional Information

Additional information about the project is available from the Commission's Office of External Affairs, at (866) 208-FERC, or on the FERC Web site (www.ferc.gov) using the eLibrary link. Click on the eLibrary link, click on “General Search” and enter the docket number, excluding the last three digits in the Docket Number field (i.e., PF14-21). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/docs-filing/esubscription.asp.

Further, public meetings or site visits will be posted on the Commission's calendar located at www.ferc.gov/EventCalendar/EventsList.aspx along with other related information. Finally, additional information about the project can be seen from the Applicant's Web site at http://ak-lng.com.

Dated: July 27, 2016.
Kimberly D. Bose,
Secretary.

[FR Doc. 2016-18580 Filed 8-4-16; 8:45 am]

BILLING CODE 6717-01-P